DEPARTMENT OF ENERGY

Federal Energy Regulatory Commission

[Docket No. CP01-45-000]

Colorado Interstate Gas Company; Supplement to Notice of Intent to Prepare an Environmental Assessment for the Proposed Valley Line Expansion Project, Request for Comments on Environmental Issues, and Notice of Public Scoping Meetings and Route Inspection

February 8, 2001.

On February 6, 2001, the Federal Energy Regulatory Commission issued the subject Notice announcing the intent of its staff to prepare an environmental assessment for the Valley Line Expansion Project and a schedule for local public scoping meetings to receive environmental comments, among other things. That Notice inadvertently omitted that the environmental scoping meetings will begin each evening at 7 p.m.

Page 6 of the Notice also contained an incomplete sentence related to how individuals may participate in the route inspection activities planned for February 27 through March 2, 2001. In order to avoid further confusion, page 6, in its entirety, is attached to this supplement.

Linwood A. Watson, Jr.,
Acting Secretary.

If you do not want to send comments at this time but still want to remain on our mailing list, please return the Information Request (appendix 3). If you do not return the Information Request (appendix 3), your name will be taken off the mailing list.

In addition to asking for written comments, we invite you to attend any of the public scoping meetings that we will conduct in the project area. The purpose of the scoping meetings is to provide state and local agencies, interested groups, landowners, and the general public with an opportunity to learn more about the project and another chance to present us with environmental issues or concerns they believe should be addressed in the EA. CIG representatives will be present at the meetings to describe the proposed project, both in general and for the specific area where each meeting is held, and to answer project-related questions.

The locations and times for these meetings are listed below. Priority will be given to commenters who represent groups, and a transcript of each meeting will be made so that your comments will be accurately recorded.

Schedule for Public Scoping Meetings
Date and Time | Location
Tuesday, February 27, 2001 at 7 p.m. | Pikes Peak Community College, Rampart Campus—Room W101, 11195 Highway 83, Colorado Springs, Colorado.
Wednesday, February 28, 2001 at 7 p.m. | Pioneer Elemetnary School Cafeteria, 10881 Riva Ridge Drive, Parker, Colorado.
Thursday, March 1, 2001 at 7 p.m. | Aims Community College, Corporate Education Center—Room 129A, Greeley, Colorado.

Route Inspection

On February 27-March 2, 2001, we will also be conducting an inspection of the proposed routes and locations of facilities associated with CIG's proposal. This inspection may include both aerial and ground components. Anyone interested in participating in the inspection activities may contact the FERC's Office of External Affairs (identified at the end of this notice) for more details and must provide their own transportation.

[FR Doc. 01-3723 Filed 2-13-01; 8:45 am]

BILLING CODE 6717-01-M